DEPARTMENT OF HEALTH AND HUMAN SERVICES

Administration for Children and Families

Submission for OMB Review; Comment Request

Title: HHS/ACF/ASPE/DOL Enhanced Services for the Hard-to-Employ Demonstration and Evaluation Project Baseline Survey (Revised).

OMB No.: 0970-0251.

Description: The Enhanced Services for the Hard-to-Employ Demonstration and Evaluation Project (HtE) is the most ambitious, comprehensive effort to learn what works in this area to date and is explicitly designed to build on previous and ongoing research by rigorously testing a wide variety of approaches to promote employment and improve family functioning and child well-being. The HtE project will “conduct a multi-site evaluation that studies the implementation issues, program design, net impact and benefit-costs of selected programs” ¹ designed to help Temporary Assistance for Needy Families (TANF) recipients, former TANF recipients, or low-income parents who are hard-to-employ. The project is sponsored by the Office of Planning, Research and Evaluation (OPRE) of the Administration for Children and Families (ACF), the Office of the Assistant Secretary for Planning and Evaluation (ASPE) in the U.S. Department of Health and Human Services (HHS), and the U.S. Department of Labor (DOL). The evaluation involves an experimental, random assignment design in six sites, testing a diverse set of strategies to promote employment for low-income parents who face serious obstacles to employment, including physical and mental health problems, substance abuse, human capital deficiencies, and situational barriers. As many as two of the sites included in the evaluation will feature “two generation” models, serving both parents and their children. Over the next several years, the HtE project will generate a wealth of rigorous data on implementation, effects, and costs of these alternatives approaches. The data collected will be used for the following purposes:

¹ From the Department of Health and Human Services RFP No.: 233-01-0012

• To study the extent to which different HtE approaches impact employment, earnings, income, welfare dependence, and the presence or persistence of employment barriers;

• To collect data on a wider range of outcome measures than is available through Welfare, Medicaid, Food Stamps, Social Security, the Criminal Justice System or Unemployment Insurance records in order to understand the family circumstances and attributes and situations that contribute to the difficulties in finding employment; job retention and job quality; educational attainment; interactions with and knowledge of the HtE program; household composition; childcare; transportation; health care; income; physical and mental health problems; substance abuse; domestic violence; and criminal history.

• To conduct non-experimental analyses to explain participation decisions and provide a descriptive picture of the circumstances of individuals who are hard-to-employ;

• To obtain participation information important to the evaluation's benefit-cost component; and to obtain contact information for possible future follow-up, information that will be important to achieving high response rates for additional surveys.

Materials for the HtE baseline survey were previously submitted to OMB on April 28, 2003, and were subsequently approved. The purpose of this revision is to introduce new instruments for the collection of baseline data in the mental health barriers site. Much of the substantive content in these instruments was included in the Mental Health Module and Core Survey that were approved in our original submission. All other instruments included in this submission remain unchanged since OMB approval.

Respondents: The respondents of the baseline survey are TANF recipients, former TANF recipients, or low-income individuals who are hard-to-employ from the five states currently participating in the HtE project: Kansas, New York, Pennsylvania, Maine, and Rhode Island. Survey respondents can be grouped according to four target populations: ex-offenders with children; low-income parents with mental health barriers; populations connected to the TANF system; and programs working with two-generations (parents and their children). Prior to random assignment, basic demographic information for all survey respondents will be obtained wherever possible from the program's automated system.

We had originally planned to administer a core set of questions via Audio-Computer Assisted Self Interview (ACASI-Core) to survey respondents in all sites. However, the revised mental health instruments have eliminated the need for a Core survey in this site, so we have reduced the number of Core survey respondents that were estimated in the previous OMB submission by 2,000 (the number of respondents originally estimated for the mental health site). The criminal justice site, which is the only site that has begun random assignment, ultimately did not implement the Core survey, using baseline data supplied by the program instead. However, we did not deduct the number of criminal justice sample members from the number of Core survey respondents for the purpose of comparability.

A separate set of questions will be administered in two stages (via a mail-out/telephone screener and a detailed telephone interview) in the site operating a program aimed at survey respondents with mental health problems. Approximately 918 respondents will complete the full 30 minutes of baseline data collection.

Finally, in the two-generation sites (as many as two of the six sites), survey respondents will complete a two-generation survey administered by a Computer Assisted Personal Interview (CAPI), in addition to the Core survey.

Annual Burden Estimates
Instrument | Number of respondents | Number of responses per respondent | Average burden hours per response | Total burden hours
Audio-CASI Core | 10,000 | 1 | 10 minutes or .17 hrs | 1,666.67
Criminal Justice Module | 2,000 | 1 | 12 minutes or .20 hrs | 400
Mental Health: One-Page Screener | 5,100 | 1 | 2 minutes or .03 hrs | 170
Mental Health:
Baseline | 612 | 1 | 10 minutes or .17 hrs | 102
Telephone Interview | 918 | 1 | 28 minutes or .47 hrs | 428.4
Two-Generation CAPI | 4,000 | 1 | 24 minutes or .40 hrs | 1,600

Estimated Total Annual Burden Hours: 4,367.07.

Additional Information

Copies of the proposed collection may be obtained by writing to the Administration for Children and Families, Office of Information Services, 370 L'Enfant Promenade, SW., Washington, DC 20447, Attn: ACF Reports Clearance Officer. All requests should be identified by the title of the information collection: E-mail address: grjohnson@acf.hhs.gov.

OMB Comment

OMB is required to make a decision concerning the collection of information between 30 and 60 days after publication of this document in the Federal Register. Therefore, a comment is best assured of having its full effect if OMB receives it within 30 days of publication. Written comments and recommendations for the proposed informational collection should be sent directly to the following: Office of Management and Budget, Paperwork Reduction Project, Attn: Desk Officer for ACF, E-mail address: katherine_t._astrich@omb.eop.gov.

Dated: April 27, 2004.
Robert Sargis,
Reports Clearance Officer.

[FR Doc. 04-10077 Filed 5-3-04; 8:45 am]

BILLING CODE 4184-01-M